DEPARTMENT OF COMMERCE

Foreign-Trade Zones Board

[B-64-2016]

Foreign-Trade Zone (FTZ) 21—Dorchester County, South Carolina; Notification of Proposed Production Activity; Volvo Car US Operations, Inc. (Motor Vehicles and Related Parts); Ridgeville, South Carolina

Volvo Car US Operations, Inc. (Volvo) submitted a notification of proposed production activity to the FTZ Board for its facility in Ridgeville, South Carolina. The notification conforming to the requirements of the regulations of the FTZ Board (15 CFR 400.22) was received on September 9, 2016.

A separate application by the South Carolina State Ports Authority, grantee of FTZ 21, for subzone designation at the Volvo facility will be submitted and processed under Section 400.31 of the Board's regulations. The facility is currently under construction and will be used for the production of motor vehicles and related parts. Pursuant to 15 CFR 400.14(b), FTZ activity would be limited to the specific foreign-status materials and components and specific finished products described in the submitted notification (as described below) and subsequently authorized by the FTZ Board.

Production under FTZ procedures could exempt Volvo from customs duty payments on the foreign-status components used in export production. On its domestic sales, Volvo would be able to choose the duty rates during customs entry procedures that apply to passenger motor vehicles, lithium-ion batteries for passenger motor vehicles, passenger motor vehicle bodies and stamped motor vehicle body parts (duty rates range between 2.5% and 3.4%) for the foreign-status inputs noted below. Customs duties also could possibly be deferred or reduced on foreign-status production equipment.

The components and materials sourced from abroad include: First aid kits; acrylic/vinyl paints; adhesives; polyurethane profile shapes/seals/plates/sheets/film; acoustic foams; foam absorbers; plastic connectors/fittings/tapes/decals/plates/sheets/film/caps/covers/plugs/anchors/handles/brackets/clamps/clips/covers/fasteners/guides/hinges/mountings/locks/knob handles/o-rings/cable ties/clamps/clips/cushions/emblems/nuts/plates/retainers/rivets/tubing/door lock parts; rubber tire sealants/threads/cords/plates/sheets/strip/gaskets/hoses/air filter ducts/tubes/belts/tires/mats/o-rings/seals/mouldings/absorbers/cushions/rings/bellows//mounts/rods/bushings; upholstery leather; leather cases/bags; felt paper and paperboards; light-weight coated paper; cardboard boxes; printed books/brochures/leaflets/manuals; felt strips; manmade fiber felt shapes; felt damping strips; netting of twines/ropes; manmade fiber twine, cordage, or rope nettings; nylon carpets; tufted other manmade textile carpets/mats; felt carpets; manmade fiber tufted and non-tufted carpets/mats; velcro straps; vent pads (polyester fleece); umbrellas; mineral wools; asbestos brake linings/pads; graphite or other carbon gaskets; glass; mirrors; sun visors; glass lenses; sound absorber/insulating articles of fiberglass; platinum catalysts; wood screws; steel butt weld fittings/flanges/gas containers; iron or steel coupling locks/wire/ropes/cables/roller chains/nails/screws/bolts/studs/sockets/nuts/rivets/cotter pins/valves/keys/springs/hangers/clamps/clips/gaskets/o-rings; copper and steel pipe; copper suppression band assemblies/o-rings/nuts/screws/earthing strap hinge hatch assemblies; aluminum plates/sheets/strips/foil/rivets/blinds/nuts/exhaust gaskets/decals; wrenches; locks; blank keys; hinges; base metal gas springs/mountings/anchors/handles/braces/brackets/clips/locks/clamps/flange seals/gaskets/o-rings/cradles/throttle caps/frames/guide rails/nuts/plates/spacers; internal combustion engines; diesel engines; engine blocks/caps/valves/plugs/rings/rods/cylinder heads; telescoping linear acting hydraulic cylinders; linear acting cylinders; pumps (fuel injection, engine oil, transmission and coolant); brake fluid reservoirs; air conditioning (A/C) compressors; fan shrouds; vacuum pump inlet connectors; turbocharger pipes; heating ventilation air conditioning (HVAC) units; air conditioner parts; HVAC heat exchangers; oil coolers; oil filters; motor vehicle A/C accumulators; engine air filters; catalytic converters; filters; air filter inlets/housings/covers; fire extinguishers; washer fluid nozzles/reservoirs; jacks; winches; trunk lid spindle drives; cranks; USB hubs; dynamic stability or variable damper control devices; auxiliary air valves; solenoid valves; throttle housing/thermostat valves; plastic drain cocks; engine cooling system housings/thermostats; valve bodies and related parts; fuel injector valve parts; bearings; speedometer cables; crankshafts; camshafts; bearings; flywheels; engine belt tensioners; automatic transmission flexplates; carburetor repair kits; engine support mounts; liquid filled engine mounts; wiper motors; mirror drive units; wiper motors; electric motors; alternators; parts of fuel pumps; electric converters; electric chargers; power supplies; inductors; flexible permanent magnets; clutches with solenoid actuators; solenoids; lithium manganese dioxide batteries; primary batteries; lead-acid batteries; electric storage batteries; lithium-ion batteries/cell module parts; vacuum cleaners; spark plugs; starter motors; glow plugs; air conditioning generators/distributors/covers/traps; lights; reflectors; electric signals; motor vehicle horns; siren sensors; windshield wiper systems; headlight frames/inserts/mountings; baffles; control units; headlights; wiper arms; lamps; heater assemblies; electric heaters; seat cushion heaters; air inlets for intake air filters; cellular/wireless telephones; telematic infotainment head units and control modules; telematics assemblies; global positioning system (GPS) assemblies; microphones; loudspeakers; earphone module assemblies; amplifiers; speakers; speaker parts; CD changers/players; TV modules/assemblies; DVD ROMs; cameras; forward looking radar sensors; radio navigation equipment; radio remote controls; radios; tape players; CD players; video monitors; monitor assemblies; antennas; TV tuner modules; signal modules; active sound display modules; remote control key shells/covers; alarm systems; electromagnetic interference filter assemblies; suppression filter assemblies; electrical resistors and related parts; power units/sensors; spark plug connectors; fuses; cables; grounds; relays; switches; lamp holders; connectors; elbows; connectors/boxes terminals; control switches; housings for electrical/fuse boxes; bulbs; lamps; electrical filaments; parts of electrical filaments/lamps; light emitting diodes; diode parts; integrated circuits; cable harnesses; electric cables; harness cables; optic fiber cables; ignition lead holders; insulating fittings; trunk lid noise suppression filters; chassis fitted with engines; motor vehicle bodies; bumper covers/frames/grills/panels/rails/trims; door assemblies/shells/panels/guides/frames; dashboard assemblies; bracket assemblies; door lock rods; cross members; lower arms; panel supports; cargo partitions; brake drums/rotors/discs/pads/shoes/calipers/covers/shields; gear boxes; oil sumps; axles; shafts; aluminum wheels; steel wheels; wheel cap rings; shock absorbers; suspension anti-roll bars/baffles/struts/control arms/frames/springs/knobs/levers/supports/arms/knuckles/rollers; radiators and related parts; mufflers; exhaust pipes; clutches and related parts; steering wheels/columns/boxes; airbag modules; shafts; gear selectors; cables; carriers; flanges; knobs; sleeves; oil dipstick tubes; gear shifts; absorbers; air ducts/guides/inlets/shields/vents; anchors; battery boxes/casings/components/covers/shelves/trays; cables; brake pedals; brake lines; differential carriers; casings; textile child seat protector covers; plastic child seat protector covers; clutch pedals/assemblies; drive shafts; pedals; coolant pipes/coils; engine covers; textile sun shade curtains; plastic sun shade curtains; tow bars/hitches/hooks; dipsticks; drain plugs; engine casings/coolant pipes/feed lines/caps; plastic/aluminum/rubber floor mats; fuel feed lines/pipes/fillers/caps/hoses/housing filters/shields/rails/tanks/hoses; heat shields; hitches; manmade fiber cargo nets; pedal pads; lenses; signals; optical night vision camera; temperature sensors; fuel sensors/gauges; HVAC sensors; air flow sensors; gas temperature sensors; gas pressure sensors; oxygen sensors; exhaust sensors; night vision modules; sensor parts; instrument clusters; heads up display modules; instrument cluster parts; battery sensors; accelerometers; sensor rods; power take off (PTO) control units; voltage regulators/control units; dashboard clocks; seat sliding blocks; leather seats/arm rests/head rests and related parts; textile seats/arm rests/head rests and related parts; plastic seats/arm rests/head rests and related parts; textile child safety seat covers; illuminated signs; zipper sliders/zipper fasteners; and, cigarette lighters (duty rates range from duty-free to 12.5%).

The following foreign-sourced materials/components will be admitted to the proposed subzone in privileged foreign status (19 CFR 146.41), thereby precluding inverted tariff benefits on such items: felt strips (HTSUS 5602.10); manmade fiber felt shapes (HTSUS 5602.90); felt damping strips (HTSUS 5602.90); netting of twines or ropes (HTSUS 5608.19); manmade fiber twine/cordage/rope nettings (HTSUS 5608.90); nylon carpets (HTSUS 5703.20); tufted other manmade textile carpets/mats (HTSUS 5703.30); felt carpets (HTSUS 5704.90); manmade fiber tufted and non-tufted carpets/mats (HTSUS 5705.00); velcro straps (HTSUS 5806.10); vent pads (polyester fleece) (HTSUS 5911.90); textile child seat protector covers (HTSUS 8708.99); textile sun shade curtains (HTSUS 8708.99); manmade fiber cargo nets (HTSUS 8708.99); textile seats/arm rests/head rests and related parts (HTSUS 9401.90); and, textile child safety seat covers (HTSUS 9401.90).

Public comment is invited from interested parties. Submissions shall be addressed to the FTZ Board's Executive Secretary at the address below. The closing period for their receipt is November 7, 2016.

A copy of the notification will be available for public inspection at the Office of the Executive Secretary, Foreign-Trade Zones Board, Room 21013, U.S. Department of Commerce, 1401 Constitution Avenue NW., Washington, DC 20230-0002, and in the “Reading Room” section of the FTZ Board's Web site which is accessible via www.trade.gov/ftz.

For further information, contact Diane Finver at Diane.Finver@trade.gov or (202) 482-1367.

Dated: September 20, 2016.
Andrew McGilvray,
Executive Secretary.

[FR Doc. 2016-23303 Filed 9-26-16; 8:45 am]

BILLING CODE 3510-DS-P